DEPARTMENT OF COMMERCE

Economic Development Administration

Notice of Petitions by Producing Firms for Determination of Eligibility To Apply for Trade Adjustment Assistance

AGENCY: Economic Development Administration (EDA).

ACTION: To give all interested parties an opportunity to comment.

Petitions have been accepted for filing on the dates indicated from the firms listed below.

List of Petition Action by Trade Adjustment Assistance for Period December 17, 2004-January 21, 2005
Firm name | Address | Date petition accepted | Product
C & M Technologies Group, Inc. | 51 South Walnut Street, Wauregan, CT 06387 | 12/27/2004 | Wire, cable and cable assemblies.
Leonardi Manufacturing Co., Inc. | 2728 Erie Drive, Weedsport, NY 13166 | 12/27/2004 | Metal stamped and press brake formed brackets and frames for automobiles and air conditioning units, and metal handbag and luggage frames.
Adcor Industries, Inc. | 234 South Haven Street, Baltimore, MD 21224 | 1/10/2005 | Machinery and spare parts for the bottling industry.
Bernier Cast Metals, Inc. | 2626 Hess Street, Saginaw, MI 48601 | 1/12/2005 | Sand cast metal products, i.e. bearings and housings.
All Service Plastic Molding, Inc. | 3365 Obco Court, Dayton, OH 45413 | 1/14/2005 | Injection molded plastic parts, i.e. cases, boxes and plastic parts and accessories for automobiles.
Holcombe Armature Company | 905 Rockmart Road, Villa Rica, GA 30180 | 1/21/2005 | Starter motor and generator armatures for automotive and other internal combustion engine applications.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice. The Catalog of Federal Domestic Assistance official program number and title of the program under which these petitions are submitted is 11.313, Trade Adjustment Assistance.

Dated: January 26, 2005.
Anthony J. Meyer,
Senior Program Analyst, Office of Strategic Initiatives.

[FR Doc. 05-1804 Filed 1-31-05; 8:45 am]

BILLING CODE 3510-24-P